DEPARTMENT OF TRANSPORTATION

Federal Aviation Administration

14 CFR Part 71

[Docket No. FAA-2022-1472; Airspace Docket No. 22-AWA-8]

RIN 2120-AA66

Amendment of Class C Airspace; Manchester, NH

AGENCY: Federal Aviation Administration (FAA), DOT.

ACTION: Final rule.

SUMMARY: This action amends the Manchester, NH Class C airspace description to update the Manchester Airport name and airport reference point (ARP) geographic coordinates to match the FAA's National Airspace System Resources (NASR) database information. This action also updates the Nashua Airport name. Additionally, references to the Manchester, NH (MHT), VHF Omnidirectional Range/Distance Measuring Equipment (VOR/DME) and Boire Field Airport and their geographical coordinates are added to the Class C description header. This action does not change the boundaries, altitudes, or operating requirements of the Class C airspace area.

DATES: Effective date 0901 UTC, February 23, 2023. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the Manchester, NH Class C airspace description.

History

During a recent review of the Manchester, NH Class C airspace description, the FAA identified the need to update the name and ARP geographic coordinates for the Manchester Airport, and to update the name of the Nashua Airport, NH. This action also makes administrative edits to the airspace description header to add the geographic coordinates for the Boire Field Airport and the Manchester, NH (MHT), VOR/DME, because these facilities are used in the Class C description. There are no changes to the boundaries, altitudes, or air traffic control services resulting from this action.

Class C airspace areas are published in paragraph 4000 of FAA Order 7400.11G, dated August 19, 2022, and effective September 15, 2022, which is incorporated by reference in 14 CFR 71.1. The Class C airspace listed in this document will be published subsequently in FAA Order JO 7400.11.

Availability and Summary of Documents for Incorporation by Reference

This document amends FAA Order 7400.11G, Airspace Designations and Reporting Points, dated August 19, 2022, and effective September 15, 2022. FAA Order 7400.11G is publicly available as listed in the ADDRESSES section of this document. FAA Order 7400.11G lists Class A, B, C, D, and E airspace areas, air traffic service routes, and reporting points.

The Rule

This action amends 14 CFR part 71 by amending the Manchester, NH Class C airspace description as published in FAA Order 7400.11G, Airspace Designations and Reporting Points. The “Manchester Airport” name is changed to “Manchester Boston Regional Airport”, to match the Airport Master Record database, and the ARP geographic coordinates are updated from “lat. 42°56′00″ N, long. 71°26′16″ W” to “lat. 42°55′58″ N, long. 71°45′39″ W.” The ARP geographic coordinates update is made to match the FAA's National Airspace System Resource database information. The “Nashua Airport” name in the Class description is updated to “Boire Field Airport” to match the Airport Master Records database. Additionally, administrative edits are made to the Class C airspace description header by adding the Boire Field Airport and the Manchester VOR/DME and their geographical coordinates, which are used in the airspace description.

This action consists of administrative changes only and does not affect the boundaries, altitudes, or operating requirements of the airspace. Therefore, notice and public procedure under 5 U.S.C. 553(b) is unnecessary.

FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action making administrative edits to the Manchester, NH, Class C airspace description qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, effective September 15, 2022, is amended as follows:

Paragraph 4000 Class C Airspace.

* * * * *

ANE NH C Manchester, NH [Amended]

Manchester Boston Regional Airport, NH

(Lat. 42°55′58″ N, long. 71°45′39″ W)

Boire Field Airport, Nashua, NH

(Lat. 42°46′57″ N, long. 71°30′51″ W)

Manchester, NH VOR/DME

(Lat. 42°52′07″ N, long. 71°22′10″ W)

That airspace extending upward from the surface to and including 4,300 feet MSL within a 5-mile radius of the Manchester Boston Regional Airport; including that airspace extending upward from 2,500 feet MSL to and including 4,300 feet MSL within a 10-mile radius of the airport; including that airspace from 1,500 feet MSL between a 5-mile radius and 10-mile radius south of the airport from Interstate 93 clockwise to the eastern edge of the 5-mile radius of Boire Field Airport; including that airspace from 2,000 feet MSL between a 5-mile radius and 10-mile radius north of the airport from the Manchester, NH VOR/DME 315° radial clockwise to Interstate 93.

Issued in Washington, DC, on November 30, 2022.
Scott M. Rosenbloom,
Manager, Airspace Rules and Regulations.

[FR Doc. 2022-26458 Filed 12-5-22; 8:45 am]

BILLING CODE 4910-13-P